DEPARTMENT OF THE TREASURY

Internal Revenue Service

Advisory Group to the Internal Revenue Service; Meeting

AGENCY: Internal Revenue Service (IRS), Treasury.

ACTION: Notice.

SUMMARY: The Information Reporting Program Advisory Committee (IRPAC) will hold a public meeting on Thursday, November 1, 2001.

FOR FURTHER INFORMATION CONTACT: Lorenza Wilds, Office of National Public Liaison, CL:NPL:PAC, Room 7565 IR, 1111 Constitution Avenue, NW., Washington, DC 20224. Telephone: 202-622-6440 (not a toll-free number). E-mail address: public_liaison@irs.gov.

SUPPLEMENTARY INFORMATION: By notice herein given, pursuant to section 10(a)(2) of the Federal Advisory Committee Act, 5 U.S.C. App. (1988), a public meeting of the IRPAC will be held on Thursday, November 1, 2001, from 9 a.m. to 4 p.m. in Room 3313, main Internal Revenue Service building, 1111 Constitution Avenue, NW., Washington, DC 20224. Issues to be discussed include: TIN matching system/automatic penalty waiver; questionable W-4s; gross proceeds on periodic payment of principal on debt obligation; affiliate taxpayer sharing W-8/W-9; enforcement of social security card presentation; recommendations to reporting requirements for SEP/SARSEP plans; uniformity of payees copy of schedule K-1 (Form 1065); and attorney reporting regulations. Reports from the four IRPAC sub-groups, Wage & Investment/Small Business/Self Employed, Large and Mid-Size Business, Tax Exempt and Government Entities and Multi-Interest will also be presented and discussed. Last minute agenda changes may preclude advance notice. The meeting room accommodates approximately 50 people, IRPAC members and Internal Revenue Service officials inclusive. Due to limited seating and security requirements, please call Lorenza Wilds to confirm your attendance. Ms. Wilds can be reached at (202) 622-6440. Attendees are encouraged to arrive at least 30 minutes before the meeting begins to allow sufficient time for purposes of security clearance. Please use the main entrance at 1111 Constitution Avenue to enter the building.

Should you wish the IRPAC to consider a written statement, please call (202) 622-6440, or write to: Internal Revenue Service, Office of National Public Liaison, CL:NPL:PAC, 1111 Constitution Avenue, NW., Room 7565 IR, Washington, DC 20224, or e-mail: public_liaison@irs.gov.

Dated: October 16, 2001.
Nancy A. Thoma,
Designated Federal Official, Acting Director, National Public Liaison.

[FR Doc. 01-26807 Filed 10-23-01; 8:45 am]

BILLING CODE 4830-01-P